DEPARTMENT OF JUSTICE

Antitrust Division

Notice Pursuant to the National Cooperative Research and Production Act of 1993—American Commission of Accreditation for Schools and Universities LLC

Notice is hereby given that, on July 24, 2019, pursuant to Section 6(a) of the National Cooperative Research and Production Act of 1993, 15 U.S.C. 4301 et seq. (“the Act”), American Commission of Accreditation for Schools and Universities LLC (“ACASU”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Commission of Accreditation for Schools and Universities LLC, Syracuse, NY. The nature and scope of ACASU's standards development activities are: To develop educational standards and pedagogical tools for international schools and colleges. They will be related to the following categories: School governance structures; educational content and delivery; school operations; school culture; and quality improvement and maintenance plans. Standards will be developed in partnership with various experts in school and college education to promote a broad perspective and ensure applicability to varied international environments. Standards will go through a process of ongoing evaluation and revision based on feedback from our clients and through systematic review processes entailing additional experts. ACASU will also provide evaluation, accreditation, and education training services for educational institutions through the use of pedagogical evaluation tools and processes for schools and colleges wishing to do so on a voluntary basis. ACASU's mission is to endorse the highest quality education for students to lead to a lifetime of achievement and service to others in a connected world.

Suzanne Morris,
Chief, Premerger and Division Statistics Unit, Antitrust Division.

[FR Doc. 2019-17122 Filed 8-8-19; 8:45 am]

BILLING CODE 4410-11-P